DEPARTMENT OF COMMERCE

National Oceanic and Atmospheric Administration

Proposed Information Collection; Comment Request; Data Collection on Marine Protected and Managed Areas

AGENCY: National Oceanic and Atmospheric Administration (NOAA), Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 5, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Joseph A. Uravitch, 301-563-1195 or joseph.uravitch@noaa.gov.

SUPPLEMENTARY INFORMATION:

I. Abstract

Executive Order 13158 directs the Department of Commerce and the Department of the Interior (DOI) to work with partners to strengthen the protection of U.S. oceans and coastal resources by developing a national system of marine protected areas. The Departments of Commerce and the Interior plan to work closely with state, territorial, local, and tribal governments, as well as other stakeholders, to identify and inventory the Nation's existing marine protected areas. Toward this end, the National Oceanic and Atmospheric Administration (NOAA) and DOI have created a data form, available on a password-protected Web site, to be used as a survey tool to collect and analyze information on these existing sites. This survey will allow NOAA and DOI to better understand the existing protections for marine resources within marine protected areas in the United States. This information also would support activities on marine protected areas by state and local governments, tribes, and other interested parties. The survey contains directed questions regarding the location, management and enforcement authorities, types of protections and restrictions, and the length of time those protections or restrictions are in place for each marine protected area. Basic information about the resources and activities at the sites will also be collected. It is expected that site managers from each marine protected area will fill out the survey. The collected information will be housed in a searchable database that will be made available to the public via the marine protected area Web site at mpa.gov. The survey has been used for the last six years and this notice proposes to extend the data collection OMB approval.

II. Method of Collection

The information will be collected using a data form.

III. Data

OMB Control Number: 0648-0449.

Form Number: None.

Type of Review: Regular submission.

Affected Public: State, local or tribal governments.

Estimated Number of Respondents: 500.

Estimated Time per Response: 5 hours.

Estimated Total Annual Burden Hours: 2,500.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 27, 2008.
Gwellnar Banks,
Management Analyst, Office of the Chief Information Officer.

[FR Doc. E8-4076 Filed 3-3-08; 8:45 am]

BILLING CODE 3510-22-P